DEPARTMENT OF TRANSPORTATION

National Highway Traffic Safety Administration

49 CFR Part 571

[Docket No. 03-14483, Notice No. 2]

RIN 2127-AH79

Federal Motor Vehicle Safety Standards; Brake Hoses; Correction

AGENCY: National Highway Traffic Safety Administration (NHTSA), Department of Transportation (DOT).

ACTION: Notice of proposed rulemaking; correction.

SUMMARY: This document corrects a Notice of Proposed Rulemaking (NPRM) published in the Federal Register on May 15, 2003. The NPRM proposed to update the Federal motor vehicle safety standard on brake hoses to incorporate the substantive specifications of several Society of Automotive Engineers (SAE) Recommended Practices relating to hydraulic brake hoses, vacuum brake hoses, air brake hoses, and plastic air brake tubing. This correction adds a proposed effective date to the preamble.

FOR FURTHER INFORMATION CONTACT: George Feygin at (202) 366-3992.

Correction

In the notice of proposed rulemaking FR Doc. 03-11292 (68 FR 26384) make the following correction. On page 26406 in the first column, add, before the beginning of the first paragraph the following:

“Effective Date

The agency believes that most, if not all, hoses, tubing, and fittings affected by Standard No. 106 are already designed to meet the SAE specifications we are proposing to add to the standard. The agency is proposing that compliance with the updated version of the standard become mandatory two years after publication of the final rule. NHTSA believes that this date will provide manufacturers with sufficient leadtime to redesign the small proportion of brake hose products that may need modification.”

Issued: June 6, 2003.
Stephen R. Kratzke,
Associate Administrator for Rulemaking.

[FR Doc. 03-14865 Filed 6-12-03; 8:45 am]

BILLING CODE 4910-59-P